FEDERAL COMMUNICATIONS COMMISSION

47 CFR Part 63

[FCC 02-154]

2000 Biennial Regulatory Review: International Telecommunications Service, Correction

AGENCY: Federal Communications Commission.

ACTION: Final rule; correction.

SUMMARY: The Commission adopted a Report and Order amending several of the Commission's rules regarding the provision of international telecommunications services. Because an error was made in the publication of the final rule, this document contains a correction to the final rule document which was published in the Federal Register on July 9, 2002 (67 FR 45387).

DATES: Effective September 10, 2002.

FOR FURTHER INFORMATION CONTACT: Peggy Reitzel, Telecommunications Division, International Bureau, (202) 418-1499.

SUPPLEMENTARY INFORMATION: On July 9, 2002, the Federal Register published a summary of the final rule in the above captioned proceeding. Instruction 11 of the rules amended § 63.21 by removing paragraph (h) and redesignating paragraphs (i) and (j) and paragraphs (h) and (i). In resdesignating paragraph (j) as paragraph (i), the instructions neglected to revise the reference to paragraph (i).

In rule FR DOC 02-16738 published on July 9, 2002 (67 FR 45391), in the second column, instruction 11 is corrected to read as follows:

11. Section 63.21 is amended by removing paragraph (h), redesignating paragraphs (i) and (j) as paragraphs (h) and (i), and by revising newly redesignated paragraph (i) to read as follows:

§ 63.21 Conditions applicable to all international Section 214 authorizations.

* * * * *

(i) An authorized carrier, or a subsidiary operating pursuant to paragraph (h) of this section, that changes its name (including the name under which it is doing business) shall notify the Commission by letter filed with the Secretary in duplicate within 30 days of the name change. Such letter shall reference the FCC file numbers under which the carrier's authorization was granted.

Federal Communications Commission.
Marlene H. Dortch,
Secretary.

[FR Doc. 02-22785 Filed 9-9-02; 8:45 am]

BILLING CODE 6712-01-P